DEPARTMENT OF JUSTICE

Antitrust Division

Notice Pursuant to the National Cooperative Research and Production Act of 1993—American Oil Chemists' Society

Notice is hereby given that, on September 14, 2004, pursuant to Section 6(a) of the National Cooperative Research and production Act of 1993, 15 U.S.C. 4301 et seq. (“the Act”), American Oil Chemists' Society (“AOCS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Oil Chemists' Society, Champaign, IL. The nature and scope of ACOS's standards development activities are: The society investigates, adopts and publishes uniform methods of analysis and recommended practices in the filed of oils, fats and related materials. These methods are used in processing, trading, utilizing, and evaluating fats, oils and lipid products. The scope of the work includes but is not limited to the following subjects: Vegetable oil source material, oilseeed by-products, commercial fats and oils, soap and synthetic detergents, glycerin, sulfonated and sulfated oils, soapstocks, specifications for reagents and solvents, and method development procedures.

Dorothy B. Fountain,
Deputy Director of Operations, Antitrust Division.

[FR Doc. 04-22890 Filed 10-12-04; 8:45 am]

BILLING CODE 4410-11-M